DEPARTMENT OF HOMELAND SECURITY

Federal Emergency Management Agency

[Docket ID: FEMA-2010-0060]

Agency Information Collection Activities: Submission for OMB Review; Comment Request, OMB No. 1660-0011; Debt Collection Financial Statement

AGENCY: Federal Emergency Management Agency, DHS.

ACTION: Notice; 30-day notice and request for comments; revision of a currently approved information collection; OMB No. 1660-0011; FEMA Form 127-0-1 (currently FEMA Form 22-13), Debt Collection Financial Statement.

SUMMARY: The Federal Emergency Management Agency (FEMA) will submit the abstracted information collection to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before March 14, 2011.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to 202-395-5806.

FOR FURTHER INFORMATION CONTACT: Requests for additional information or copies of the information collection should be made to Director, Records Management Division, 1800 South Bell Street, Arlington, VA 20598-3005, facsimile number 202-646-3347, or e-mail address FEMA-Information-Collections-Management@dhs.gov.

SUPPLEMENTARY INFORMATION:

Collection of Information

Title: Debt Collection Financial Statement.

Type of Information Collection: Revision of a currently approved information collection.

OMB Number: 1660-0011.

Form Titles and Numbers: FEMA Form 127-0-1 (currently FEMA Form 22-13), Debt Collection Financial Statement.

Abstract: FEMA may request debtors to provide personal financial information on FEMA Form 127-0-1 concerning their current financial position. With this information, FEMA evaluates whether to allow its debtors to pay their FEMA debts under installment repayment agreements and if so, under what terms. FEMA also uses this data to determine whether to compromise, suspend, or completely terminate collection efforts on respondents' debts. This data is also used to locate the debtors' assets if the debts are sent for judicial enforcement.

Affected Public: Individuals or households.

Estimated Number of Respondents: 1,600.

Frequency of Response: Once.

Estimated Average Hour Burden per Respondent: FEMA Form 127-0-1; 45 minutes.

Estimated Total Annual Burden Hours: 1,200 hours.

Estimated Cost: There is no capital, start-up, operation or maintenance cost associated with this collection.

Dated: February 4, 2011.
Lesia M. Banks,
Director, Records Management Division, Mission Support Bureau, Federal Emergency Management Agency, Department of Homeland Security.

[FR Doc. 2011-3020 Filed 2-9-11; 8:45 am]

BILLING CODE 9110-49-P